SMALL BUSINESS ADMINISTRATION

Disaster Declaration #10554; NEW YORK Disaster # NY-00024 Declaration of Economic Injury

AGENCY: Small Business Administration.

ACTION: Notice.

SUMMARY: This is a notice of an Economic Injury Disaster Loan (EIDL) declaration for the State of New York , dated 07/30/2006.

Incident: Power Outage Precipitated by Extreme Heat and Rising Temperatures.

Incident Period: 07/17/2006 and continuing.

date: Effective Date: 07/31/2006.

EIDL Loan Application Deadline Date: 05/01/2007

ADDRESSES: Submit completed loan applications to: U.S. Small Business Administration, National Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's EIDL declaration on 07/31/2006, applications for economic injury disaster loans may be filed at the address listed above or other locally announced locations.

The following areas have been determined to be adversely affected by the disaster:

Primary Counties: Queens.

Contiguous Counties:

New York: Bronx, Kings, Nassau, New York.

The Interest Rate is: 4.000.

The number assigned to this disaster for economic injury is 105540.

The State which received an EIDL Declaration # is New York.

(Catalog of Federal Domestic Assistance Number 59002).

Dated: July 31, 2006.
Steven C. Preston,
Administrator.

[FR Doc. E6-12730 Filed 8-4-06; 8:45 am]

BILLING CODE 8025-01-P